DEPARTMENT OF THE INTERIOR

Fish and Wildlife Service

[Docket No. FWS-HQ-IA-2019-0011; FXIA16710900000-178-FF09A30000]

Foreign Endangered Species; Marine Mammals; Receipt of Permit Applications

AGENCY: Fish and Wildlife Service, Interior.

ACTION: Notice of receipt of permit applications; request for comments.

SUMMARY: We, the U.S. Fish and Wildlife Service (Service), invite the public to comment on applications to conduct certain activities with foreign species that are listed as endangered under the Endangered Species Act (ESA) and foreign or native species for which the Service has jurisdiction under the Marine Mammal Protection Act (MMPA). With some exceptions, the ESA and the MMPA prohibit activities with listed species unless Federal authorization is issued that allows such activities. The ESA and MMPA also require that we invite public comment before issuing permits for any activity otherwise prohibited by the ESA or MMPA with respect to any endangered species or marine mammals.

DATES: We must receive comments by May 1, 2019.

ADDRESSES: Obtaining Documents: The applications, application supporting materials, and any comments and other materials that we receive will be available for public inspection at http://www.regulations.gov in Docket No. FWS-HQ-IA-2019-0011.

Submitting Comments: When submitting comments, please specify the name of the applicant and the permit number at the beginning of your comment. You may submit comments by one of the following methods:

• Internet: http://www.regulations.gov. Search for and submit comments on Docket No. FWS-HQ-IA-2019-0011.

• U.S. mail or hand-delivery: Public Comments Processing, Attn: Docket No. FWS-HQ-IA-2019-0011; U.S. Fish and Wildlife Service Headquarters, MS: BPHC; 5275 Leesburg Pike; Falls Church, VA 22041-3803.

For more information, see Public Comment Procedures under SUPPLEMENTARY INFORMATION.

FOR FURTHER INFORMATION CONTACT: Brenda Tapia, by phone at 703-358-2104, via email at DMAFR@fws.gov, or via the Federal Relay Service at 800-877-8339.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), and section 104(c) of the Marine Mammal Protection Act of 1972, as amended (MMPA; 16 U.S.C. 1361 et seq.), we invite public comments on permit applications before final action is taken. With some exceptions, the ESA and MMPA prohibit certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17. Service regulations regarding permits for any activity otherwise prohibited by the MMPA with respect to any marine mammals are available in title 50 of the Code of Federal Regulations in part 18. Concurrent with publishing this notice in the Federal Register, we are forwarding copies of the marine mammal applications to the Marine Mammal Commission and the Committee of Scientific Advisors for their review.

III. Permit Applications

We invite comments on the following applications.

A. Endangered Species

Applicant: Tony Goldberg, University of Wisconsin, Madison, WI; Permit No. 09881D

The applicant requests a permit to import biological samples of wild-born and captive-born chimpanzees (Pan troglodytes) from Ngamba Island Chimpanzee Sanctuary, Uganda, for the purpose of scientific research. This notification is for a single import.

Applicant: Denver Zoological Foundation, Denver, CO; Permit No. 17573D

The applicant requests a permit to export one captive-born Malay tapir (Tapirus indicus) to Africam, Mexico, for the purpose of enhancing the propagation or survival of the species. This notification is for a single export.

Applicant: University of Illinois, Veterinary Diagnostic Laboratory, Brookfield, IL; Permit No. 21469B

The applicant requests to import biological samples from chimpanzee (Pan troglodytes) in Tanzania for the purpose of scientific research. This notification covers activities to be conducted by the applicant over a 5-year period.

Applicant: LMBI, Fort Worth, TX; Permit No. 18708D

The applicant requests a permit to export one captive-born southern black rhino (Diceros bicornis) to Taronga Zoo, Australia, for the purpose of enhancing the propagation or survival of the species. This notification is for a single export.

Applicant: Duke University Lemur Center, Durham, NC; Permit No. 21559D

The applicant requests a permit to export one male and one female captive-born Coquerel's sifaka (Propithecus coquereli) to Tierpark Berlin, Berlin, Germany, for the purpose of enhancing the propagation or survival of the species. This notification is for a single export.

Applicant: Elliot Jacobson, University of Florida, Gainesville, FL; Permit No. 21270D

The applicant requests a permit to import biological tissue samples of Central American river turtle (Dermatemys mawii) from Unitedville, Belize, for the purpose of scientific research. This notification is for a single import.

Applicant: Omaha's Henry Doorly Zoo & Aquarium, Omaha, NE; Permit No. 22215D

The applicant requests a permit to import one live captive-bred male Siberian tiger (Panthera tigris altaica) from Moscow Zoo, Moscow, Russian Federation, for the purpose of enhancing the propagation or survival of the species. This notification is for a single import.

Applicant: Cleveland Metroparks Zoo, Cleveland, OH; Permit No. 04323D

The applicant requests a permit to import one female captive-born Siberian tiger (Panthera tigris altaica) for the purpose of enhancing the propagation or survival of the species. This notification is for a single import.

Applicant: Seneca Park Zoo, Rochester, NY; Permit No. 02406D

The applicant requests a captive-bred wildlife registration under 50 CFR 17.21(g) for snow leopard (Panthera uncia) and African penguin (Spheniscus demersus) to enhance the propagation or survival of the species. This notification covers activities to be conducted by the applicant over a 5-year period.

Applicant: Virginia Safari Park, Natural Bridge, VA; Permit No. 02395D

The applicant requests a captive-bred wildlife registration under 50 CFR 17.21(g) for African penguin (Spheniscus demersus) and southern white rhino (Ceratotherium simum simum) to enhance the propagation or survival of the species. This notification covers activities to be conducted by the applicant over a 5-year period.

Applicant: Los Angeles Zoo and Botanical Garden, Los Angeles, CA; Permit No. 11986D

The applicant requests a captive-bred wildlife registration under 50 CFR 17.21(g) for the following species listed in the table below, to enhance the propagation or survival of the species. This notification covers activities to be conducted by the applicant over a 5-year period.

Figure 1 to Paragraph (e)
Common name | Scientific name
African wild dog | Lycaon pictus
Andean condor | Vultur gryphus
Anoa | Bubalus depressicornis
Asian elephant | Elephas maximus
Baird's tapir | Tapirus bairdii
Bali mynah | Leucopsar rothschildi
Black lemur | Eulemur macaco
Blue-billed curassow | Crax alberti
Blue-throated macaw | Ara glaucogularis
Bornean orangutan | Pongo pygmaeus pygmaeus
Buru babirusa | Babyrousa celebensus
Chimpanzee | Pan troglodytes
Francois' langur | Trachypithecus francoisi
Giant otter | Pteronura brasiliensis
Golden-lion tamarin | Leontopithecus rosalia
Grevy's zebra | Equus grevyi
Harpy eagle | Harpia harpyja
Komodo monitor | Varanus komodoensis
Mandrill | Mandrillus sphinx
Maned wolf | Chrysocyon brachyurus
Peninsular pronghorn | Antilocapra americana peninsularis
Radiated tortoise | Astrochelys radiata
Ring-tailed lemur | Lemur catta
San Esteban Island chuckwalla | Sauromalus varius
Siamang | Symphalangus syndactylus
Snow leopard | Uncia uncia
Southern pudu | Pudu puda
Tiger | Panthera tigris
Tomistoma | Tomistoma schlegeli
Verreaux's sifaka | Propithecus verreauxi
Western gorilla | Gorilla gorilla
Woylie | Bettongia penicillata
Yellow-footed rock wallaby | Petrogale xanthopus

Applicant: William Tatom, Amarillo, TX; Permit No. 98275C

The applicant requests a permit to import the sport-hunted trophy of one scimitar-horned oryx (Oryx dammah) culled from a captive herd in Mexico, for the purpose of enhancing the propagation or survival of the species.

Applicant: Rita Kalmon, Medford, WI; Permit No. 98276C

The applicant requests a permit to import the sport-hunted trophy of one scimitar-horned oryx (Oryx dammah) culled from a captive herd in Mexico, for the purpose of enhancing the propagation or survival of the species.

Applicant: Nathan Somero, New Ipswich, NH; Permit No. 98249C

The applicant requests a permit to import the sport-hunted trophy of one scimitar-horned oryx (Oryx dammah) culled from a captive herd in Mexico, for the purpose of enhancing the propagation or survival of the species.

Applicant: David Baldauf., Gilbert, AZ; Permit No. 98253C

The applicant requests a permit to import the sport-hunted trophy of one scimitar-horned oryx (Oryx dammah) culled from a captive herd in Mexico, for the purpose of enhancing the propagation or survival of the species.

Applicant: Anthony Deshaw, Rochester Hills, MI; Permit No. 14599D

The applicant requests a permit to import the sport-hunted trophy of one scimitar-horned oryx (Oryx dammah) culled from a captive herd in Mexico, for the purpose of enhancing the propagation or survival of the species.

Multiple Trophy Applicants

The following applicants request permits to import sport-hunted trophies of male bontebok (Damaliscus pygargus pygargus) culled from a captive herd maintained under the management program of the Republic of South Africa, for the purpose of enhancing the propagation or survival of the species.

Applicant: Steven Crews, Natchitoches, LA; Permit No. 15034D

Applicant: Donald Youngblood, Keizer, OR; Permit No. 17070D

Applicant: Donald Wehmeyer, Abilene, TX; Permit No. 17570D

Applicant: Scott Ames, Tulsa, OK; Permit No. 21256D

B. Endangered Marine Mammals and Marine Mammals

Applicant: National Marine Fisheries Service (NMFS), National Oceanic and Atmospheric Admin, Marine Mammal Health and Stranding Response Program, Silver Spring, MD; Permit No. 009526

NMFS, the applicant, requests renewal of their permit in order to salvage, receive, possess, analyze, transfer, import, and export samples and parts of all marine mammal species under U.S. Fish and Wildlife Service (USFWS) jurisdiction and also for incidental take of all marine mammals under USFWS jurisdiction that may occur while NMFS is performing research or emergency response activities on marine mammals under NMFS jurisdiction under NMFS permit no. 18786-02. They are also requesting Level B coverage for incidental harassment that may occur to the four marine mammal species that are found in U.S. waters; the possible incidental harassment would occur as a result of activities conducted under NMFS's Marine Mammal Health and Stranding Response Program permit for the purpose of enhancement of the survival of the species. This notification covers activities to be conducted by the applicant over a 5-year period.

Applicant: U.S. Geological Survey, National Wildlife Health Center, Madison, WI; Permit No. 51164C

The applicant requests authorization for the following activities, for the purpose of scientific research (in order to determine possible causes of disease and mortality):

To receive and process northern sea otter (NSO) carcasses stranded in Washington and Alaska;

To transport tissue samples from these NSO carcasses to other lab facilities within the United States for diagnostic testing; and

To export biological specimens to the Department of Fisheries and Oceans in Canada of northern sea otter (Enhydra lutris kenyoni), Pacific walrus (Odobenus rosmarus), West Indian manatee (Trichechus manatus), and polar bear (Ursus maritimus).

This notification covers activities to be conducted by the applicant over a 5-year period.

Applicant: Florida Fish and Wildlife Research Institute, St. Petersburg, FL; Permit No. 773494

The applicant requests renewal of their research permit to conduct aerial surveys on West Indian Florida manatee (Trichechus manatus). They are also requesting to import, export, or re-export biological samples (tissues, parts, samples, or carcasses) of West Indian manatee, Amazonian manatee (Trichechus inunguis), African manatee (Trichechus senegalensis), and dugong (Dugong dugon) for the purpose of scientific research. This notification covers activities to be conducted by the applicant over a 5-year period.

IV. Next Steps

After the comment period closes, we will make decisions regarding permit issuance. If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations, and the Marine Mammal Protection Act of 1972, as amended (16 U.S.C. 1361 et seq.), and its implementing regulations.

Brenda Tapia,
Program Analyst/Data Administrator, Branch of Permits, Division of Management Authority.

[FR Doc. 2019-06212 Filed 3-29-19; 8:45 am]

BILLING CODE 4333-15-P